DEPARTMENT OF LABOR

Employment and Training Administration

[TA-W-56,056]

Set Enterprises, Warren, MI; Notice of Termination of Investigation

Pursuant to Section 221 of the Trade Act of 1974, as amended, an investigation was initiated on November 22, 2004 in response to a petition filed by a company official on behalf of workers at SET Enterprises, Warren, Michigan.

The petitioner has requested that the petition be withdrawn. Consequently, the investigation has been terminated.

Signed at Washington, DC this 3rd day of December 2004.
Linda G. Poole,
Certifying Officer, Division of Trade Adjustment Assistance.

[FR Doc. E4-3776 Filed 12-21-04; 8:45 am]

BILLING CODE 4510-30-P